DEPARTMENT OF HOMELAND SECURITY

Bureau of Citizenship and Immigration Services

Agency Information Collection Activities: Proposed Collection; Comment Request

ACTION: 30-day notice of information collection under review: Application for Advance Permission to Return to Unrelinquished Domicile, form I-191.

The Department of Homeland Security, Bureau of Citizenship and Immigration Services (BCIS), has submitted the following information collection request to the Office of Management and Budget (OMB) for review and clearance in accordance with the Paperwork Reduction Act of 1995. The information collection was previously published in the Federal Register on June 4, 2003 at 68 FR 33511, allowing for a 60-day public comment period. No comments were received by the BCIS on this proposed information collection.

The purpose of this notice is to allow an additional 30 days for public comments. Comments are encouraged and will be accepted until December 3, 2003. This process is conducted in accordance with 5 CFR 1320.10.

Written comments and/or suggestions regarding the items contained in this notice, especially regarding the estimated public burden and associated response time, should be directed to the Office of Management and Budget, Office of Information and Regulatory Affairs, Attention: Department of Homeland Security Desk Officer, Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Application for Advance Permission to Return to Unrelinquished Domicile.

(3) Agency form number, if any, and the applicable component of the Department of Homeland Security sponsoring the collection: Form I-191, Bureau of Citizenship and Immigration Services, Department of Homeland Security.

(4) Affected public who will be asked or required to respond, as well as a brief abstract: Primary: Individuals or Households. The information collected on this form will be used by the Bureau of Citizenship and Immigration Services to determine whether the applicant is eligible for discretionary relief under section 212(c) of the Act.

(5) An estimate of the total number of respondents and the amount of time estimated for an average respondent to respond: 300 responses at 15 minutes (.25 hours) per response.

(6) An estimate of the total public burden (in hours) associated with the collection: 75 annual burden hours.

If you have additional comments, suggestions, or need a copy of the proposed information collection instrument with instructions, or additional information, please contact Richard A. Sloan 202-514-3291, Director, Regulations and Forms Services Division, U.S. Department of Homeland Security, Room 4304, 425 I Street, NW., Washington, DC 20536. Additionally, comments and/or suggestions regarding the item(s) contained in this notice, especially regarding the estimated public burden and associated response time may also be directed to Mr. Richard A. Sloan.

If additional information is required contact: Ms. Yvonne Pollard, Clearance Officer, U.S. Department of Homeland Security, Regional Office Building 3, 7th and D Streets, SW., Suite 4636-26, Washington, DC 20202.

Dated: October 28, 2003.
Richard A. Sloan,
Department Clearance Officer, U.S. Department of Homeland Security, Bureau of Citizenship and Immigration Services.

[FR Doc. 03-27565 Filed 10-31-03; 8:45 am]

BILLING CODE 4410-10-M